DEPARTMENT OF TRANSPORTATION

Federal Aviation Administration

Approval of Noise Compatibility Program; Burbank-Glendale-Pasadena Airport, Burbank, California

AGENCY: Federal Aviation Administration, DOT.

ACTION: Notice.

SUMMARY: The Federal Aviation Administration (FAA) announces its findings on the Noise Compatibility Program submitted by the Burbank-Glendale-Pasadena Airport Authority, Burbank, California, under the provisions of Title I of the Aviation Safety and Noise Abatement Act of 1979 (Public Law 96-193) and Title 14, Code of Federal Regulations, Part 150 (FAR Part 150). These findings are made in recognition of the description of Federal and nonfederal responsibilities in Senate Report No. 96-52 (1980). On January 31, 2000, the FAA determined that the noise exposure maps submitted by the Burbank-Glendale-Pasadena Airport Authority under FAR Part 150 were in compliance with applicable requirements. On November 27, 2000, the Acting Associate Administrator for Airports approved the Burbank-Glendale-Pasadena Airport Noise Compatibility Program. Twenty-five of the twenty-eight program measures have been approved. Four measures were approved as voluntary measures, one measure was approved in part, twenty measures were approved outright, two measures were disapproved pending the submission of additional information and compliance with Part 161, and no action was taken on one measure relating to flight procedures.

EFFECTIVE DATE: The effective date of the FAA's approval of the Burbank-Glendale-Pasadena Airport Noise Compatibility Program is November 27, 2000.

FOR FURTHER INFORMATION CONTACT: Brian Armstrong, Airport Planner, Airports Division, AWP-611.1, Federal Aviation Administration, Western-Pacific Region. Mailing address: P.O. Box 92007, Worldway Postal Center, Los Angeles, California 90009-2007. Telephone: (310) 725-3614. Street address: 15000 Aviation Boulevard, Hawthorne, California 90261. Documents reflecting this FAA action may be reviewed at this location.

SUPPLEMENTARY INFORMATION: This notice announces that the FAA has given its overall approval to the Noise Compatibility Program for the Burbank-Glendale-Pasadena Airport, effective November 27, 2000.

Under Section 104(a) of the Aviation Safety and Noise Abatement Act of 1979 (hereinafter referred to as “the Act”), an airport operator who has previously submitted a Noise Exposure Map, may submit to the FAA, a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR Part 150 is a local program, not a federal program. The FAA does not substitute its judgment for that of the airport proprietor with respect to which measures would be recommended for action. The FAA's approval or disapproval of FAR Part 150 program recommendations is measured according to the standards expressed in FAR Part 150 and is limited to the following determinations:

a. The Noise Compatibility Program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, section 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division office in Hawthorne, California.

The Burbank-Glendale-Pasadena Airport Authority submitted the Noise Exposure Maps, descriptions, and other documentation produced during the noise compatibility planning study conducted from February 1997 through November 1999 to the FAA on December 23, 1998, and September 20, 1999. The Burbank-Glendale-Pasadena Airport Noise Exposure Maps were determined by FAA to be in compliance with applicable requirements on January 31, 2000. Notice of this determination was published in the Federal Register on February 14, 2000.

The Burbank-Glendale-Pasadena Airport study contains a proposed Noise Compatibility Program comprised of actions designed for implementation by airport management and adjacent jurisdictions. It was requested that the FAA evaluate and approve this material as a Noise Compatibility Program as described in Section 104(b) of the Act. The FAA began its review of the program on May 31, 2000 and was required by a provision of the Act to approve or disapprove the program within 180 days (other than the use of new flight procedures for noise control). Failure to approve or disapprove such program within the 180-day period shall be deemed to be an approval of such program.

The submitted program contained twenty-eight proposed actions for noise mitigation on and off the airport. The FAA completed its review and determined that the procedural and substantive requirements of the Act and FAR Part 150 have been satisfied. The Acting Associate Administrator for Airports approved the overall program effective November 27, 2000.

Twenty-five of the twenty-eight program measures have been approved. The following four measures were approved as voluntary measures: Continue promoting use of AC 91-53A noise abatement departures procedures by air carrier jets; continue promoting use of NBAA noise abatement procedures, or equivalent manufacturers procedures, by general aviation jet aircraft; continue working with the FAA Airport Traffic Control Tower to maintain the typical traffic pattern altitude of 1,800 feet MSL; and, designate Runway 26 as nighttime preferential departure runway. The following measure was approved in part: Offer purchase assurance as an option for homeowners in the acoustical treatment eligibility area. The following twenty measures were approved outright: Continue requiring all transport category and turbojet aircraft to comply with Federal aircraft noise regulations; continue requiring compliance with the Airport's Engine Test Run Up Policy; continue the placement of new buildings on the airport north of Runway 8-26 to shield nearby neighborhood from noise on runway; build extension of Taxiway D to promote nighttime general aviation departures on Runway 26; build engine maintenance run-up enclosure; continue existing acoustical treatment program for single-family homes; expand residential acoustical treatment program to include homes within 65 CNEL contour based on 2003 NEM; establish acoustical treatment program for schools and preschools not previously treated within the 65 CNEL contour based on 2003 NEM; used Baseline 2010 noise contours as basis for noise compatibility planning; establish noise compatibility guidelines for the review of development projects within the 65 CNEL contour; amend Sun Valley-La Tuna Canyon Community Plan to establish infill development standards for noise compatibility; Amend North Hollywood-Valley Village Community Plan to establish land use policies promoting airport noise compatibility; establish airport noise overlay zoning to implement infill development policies of local General Plans; amend building codes to establish sound insulation construction standards to implement requirements of State law and infill development policies; continue noise abatement information program; monitor implementation of updated Noise Compatibility Program; update Noise Exposure Maps and Noise Compatibility Program; expand noise monitoring system; enhance Airport Authority's geographic information system; and, maintain log of nighttime runway use and operations by aircraft type. The following two measures were disapproved pending the submission of additional information and compliance with Part 161: Phase-out operations by all State 2 jets; and, establish a mandatory curfew on departures by all Stage 2 aircraft between 10 p.m. and 7 a.m., departures by all aircraft over 75,000 pounds between 10:30 p.m. and 6:30 a.m., and arrivals by all aircraft over 75,000 pounds between 11 p.m. and 6 a.m. No action was taken on the following measure related to flight procedures: Establish noise abatement departure turn for jet takeoffs on Runway 26.

These determinations are set forth in detail in a Record of Approval endorsed by the Acting Associate Administrator for Airports on November 27, 2000. The Record of Approval, as well as other evaluation materials and the documents comprising the submittal are available for review at the FAA office listed above and at the administrative offices of the Burbank-Glendale-Pasadena Airport Authority, Burbank, California.

Issued in Hawthorne, California on December 5, 2000.
Herman C. Bliss,
Manager, Airports Division, AWP-600, Western-Pacific Region.

[FR Doc. 00-32525 Filed 12-20-00; 8:45 am]

BILLING CODE 4910-13-M